DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: SAMHSA Fetal Alcohol Spectrum Disorders Center for Excellence Project CHOICES Evaluation—New

Since 2001, SAMHSA's Center for Substance Abuse Prevention has been operating the SAMHSA Fetal Alcohol Spectrum Disorders (FASD) Center for Excellence. The purpose of the FASD Center for Excellence is to prevent and improve the treatment of FASD. Some of the activities of the FASD Center include providing training, technical assistance, and subcontracts to increase the use of effective evidence-based interventions.

The FASD Center will be integrating the Project CHOICES program through service delivery organizations and will be evaluating the results. Six sites will implement Project CHOICES with nonpregnant women 18-44 years who are sexually active and who are participating in alcohol treatment (residential or outpatient) or in drug treatment (if the women also use alcohol). Women in substance abuse treatment will be screened and those women that meet the above description will be provided four Motivational Interviewing (MI) sessions (related to alcohol use), plus one contraceptive counseling session. The goal is to help these women prevent an alcohol-exposed pregnancy by abstaining from alcohol and using contraceptive methods of their choice consistently and correctly.

At baseline, an assessment tool will be administered by the counselor to assess drinking, sexual activity, contraceptive use, and demographic information. At the end of the program, women are assessed on their alcohol consumption and contraceptive use in the past 30 days. At 6 months and 12 months after the end of the program, women are assessed on alcohol consumption and contraceptive use using the same core assessment tool used at baseline. All participating sites will maintain personal identification on their clients for service delivery purposes but no such information will be transmitted to SAMHSA.

The data collection is designed to evaluate the implementation of Project CHOICES by measuring whether abstinence from alcohol is achieved and effective birth control practices are performed. Furthermore, the project will include process measures to assess whether and how the intervention was provided.

Estimated Annualized Burden Hours
Screening tool/activity | Number of respondents (6 sites) | Number of responses per respondent | Average burden per response | Total burden hours per collection
Alcohol Use and Contraceptive Methods Assessment (Screening Form/Form Q) | 913 | 1 | 0.25 | 228
Project CHOICES process evaluation assessing whether sessions were delivered and their duration (4 MI sessions and 1 contraception use session—Form B and C—75% of baseline) | 684 | 5 | 0.08 | 274
Alcohol Use and Contraceptive Methods Assessment: End of program, 6- and 12-month followup (Forms D, E, & F—50% of baseline) | 456 | 3 | 0.25 | 342
Total | 2,053 |  |  | 844

Written comments and recommendations concerning the proposed information collection should be sent by August 12, 2009 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: July 2, 2009.
Elaine Parry,
Director, Office of Program Services.

[FR Doc. E9-16458 Filed 7-10-09; 8:45 am]

BILLING CODE 4162-20-P